DEPARTMENT OF TRANSPORTATION

Federal Aviation Administration

14 CFR Part 71

[Docket No. FAA-2020-0350; Airspace Docket No. 18-AAL-2]

RIN 2120-AA66

Proposed Amendment of Class E Airspace; Kotzebue, AK

AGENCY: Federal Aviation Administration (FAA), DOT.

ACTION: Notice of proposed rulemaking (NPRM).

SUMMARY: This action proposes to amend the Class E airspace, designated a surface area, by removing the extensions to the east and west of the airport. This action also proposes to properly size the Class E airspace extending upward from 700 feet above the surface. The area should be reduced east of the airport to properly contain arriving IFR aircraft descending below 1,500 feet above the surface. Additionally, this action proposes to properly size the Class E airspace extending upward from 1,200 feet above the surface by reducing the area from a 74-mile radius of the airport to a 45-mile radius of the airport. Further, this action proposes to remove the Kotzebue VOR/DME Navigational Aid from the airspace legal descriptions. Lastly, this action proposes numerous administrative corrections to the airspace legal descriptions. This action would ensure the safety and management of IFR operations at the airport.

DATES: Comments must be received on or before June 22, 2020.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2020-0350; Airspace Docket No. 18-AAL-2, at the beginning of your comments. You may also submit comments through the internet at https://www.regulations.gov.

FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend the Class E airspace at Ralph Wein Memorial Airport, Kotzebue, AK to support instrument flight rules (IFR) operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2020-0350; Airspace Docket No. 18-AAL-2”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) Part 71 by amending the Class E airspace, designated a surface area, at Ralph Wein Memorial Airport, Kotzebue, AK. This area is designed to contain arriving IFR aircraft descending below 1,000 feet above the surface and IFR departures until reaching 700 feet above the surface. The extensions east and west of the airport are no longer required to properly contain aircraft and should be removed. This area is described as follows: That airspace extending upward from the surface within a 4.3-mile radius of the Ralph Wien Memorial Airport.

This action also proposes to amend Class E airspace, extending upward from 700 feet above the surface, to properly contain arriving IFR aircraft descending below 1,500 feet above the surface and departing IFR aircraft until reaching 1,200 feet above the surface. The area should be reduced east of the airport to properly contain arriving IFR aircraft. This area is described as follows: That airspace extending upward from 700 feet above the surface within a 6.8-mile radius of the airport, and within 8 miles north and 4 miles south of the 088° bearing from the airport, extending from 1.4 miles east of the airport to 17.4 miles east of the airport, and within 4 miles north and 8 miles south of a 276° bearing from the airport, extending from the airport to 14.7 miles west of the Ralph Wein Memorial Airport.

Additionally, this action proposes to amend the Class E airspace extending upward from 1,200 feet above the surface. This airspace is designed to contain IFR aircraft while transitioning to/from the terminal and en route environments. The area is larger than required and should be reduced from a 74-mile radius to a 45-mile radius of the airport. The area is described as follows: That airspace extending upward from 1,200 feet above the surface within a 45-mile radius of the Ralph Wien Memorial Airport, excluding that airspace beyond 12 miles from the shoreline.

Further, this action proposes to remove the Kotzebue VOR/DME Navigational Aid from the airspace legal descriptions. The Navigational Aid is not required to define the airspace and by removing it from the legal description, the airspace can be described from a single reference point.

Lastly, this action proposes several administrative corrections to the airspace legal descriptions. The airport name on the 2nd line of the text header does not match the FAA database. Kotzebue should be removed from the airport name and it should read: “Ralph Wien Memorial Airport, AK”. The airport's geographic coordinates do not match the FAA database and should be updated to lat. 66°53′05″ N, long. 162°35′53″ W. The Class E surface airspace should be full time; the following two sentences do not accurately represent the time of use and should be removed: “This Class E airspace area is effective during specific dates and times established in advance by a Notice to Airmen. The effective date and time will thereafter be continuously published in the Airport/Facility Directory.”

Class E2 and E5 airspace designations are published in paragraphs 6002 and 6005, respectively, of FAA Order 7400.11D, dated August 8, 2019, and effective September 15, 2019, which is incorporated by reference in 14 CFR 71.1. The Class E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as a Surface Area.

* * * * *

AAL AK E2 Kotzebue, AK [Amended]

Ralph Wien Memorial Airport, AK

(Lat. 66°53′05″ N, long. 162°35′53″ W)

That airspace extending upward from the surface within a 4.3-mile radius of the Ralph Wien Memorial Airport.

Paragraph 6005 Class E Airspace Areas Extending Upward From 700 Feet or More Above the Surface of the Earth.

* * * * *

AAL AK E5 Kotzebue, AK [Amended]

Ralph Wien Memorial Airport, AK

(Lat. 66°53′05″ N, long. 162°35′53″ W)

That airspace extending upward from 700 feet above the surface within a 6.8-mile radius of the airport, and within 8 miles north and 4 miles south of the 088° bearing from the airport, extending from 1.4 miles east of the airport to 17.4 miles east of the airport, and within 4 miles north and 8 miles south of a 276° bearing from the airport, extending from the airport to 14.7 miles west of the airport; and that airspace extending upward from 1,200 feet above the surface within a 45-mile radius of the Ralph Wien Memorial Airport, excluding that airspace beyond 12 miles from the shoreline.

Issued in Seattle, Washington, on April 23, 2020.
Shawn M. Kozica,
Group Manager, Operations Support Group, Western Service Center.

[FR Doc. 2020-09593 Filed 5-6-20; 8:45 am]

BILLING CODE 4910-13-P